DEPARTMENT OF THE INTERIOR

National Park Service

Intent To Prepare a Draft Environmental Impact Statement for the Stiltsville, Management Plan, Biscayne National Park, FL

AGENCY: National Park Service, Interior.

ACTION: Notice of intent to prepare a draft environmental impact statement for the Stiltsville Management Plan, Biscayne National Park, Florida.

SUMMARY: Under the provisions of the National Environmental Policy Act of 1969, the National Park Service (NPS) is preparing a draft environmental impact statement (DEIS) for the Stiltsville Management Plan for Biscayne National Park. This effort will result in a management plan to guide public use and management of 7 stilt structures located in the northern end of Biscayne National Park in Biscayne Bay, Florida. Management options being considered include public use of the structures consistent NPS policy and best management practices for environmental protection (the preferred alternative), and private lease under NPS management.

Major issues include potential impacts on water quality, biological resources, soundscape, visual resources, cultural resources, and the visitor experience.

To facilitate sound planning and consideration of environmental resources, the NPS intends to gather information necessary for the preparation of the Management Plan/DEIS and to obtain suggestions and information from other agencies and the public on the scope of issues to be addressed in the Management Plan/DEIS. Comments and participation in this scoping process are invited. Participation in the planning process will be encouraged and facilitated by various means, including newsletters and open houses or meetings.

DATES: The NPS will conduct public scoping meetings to explain the planning process and to solicit opinions about issues to be addressed in the Stiltsville Management Plan/DEIS. Locations, dates, and times of public scoping meetings will be announced in the local press, in NPS newsletters and on the park website, http://www.nps.gov/bisc and may also be obtained by contacting Biscayne National Park.

ADDRESSES: Written comments and information concerning the scope of the Management Plan/DEIS and other matters should be sent to the following address, Stiltsville Management Plan, Biscayne National Park, 9700 SW 328th St., Homestead, Florida 33033. Requests to be added to the project mailing list should be directed to the same address.

FOR FURTHER INFORMATION CONTACT: Superintendent, Biscayne National Park, 305-230-1144 ext. 3002

SUPPLEMENTARY INFORMATION: The NPS is developing a management plan for the 7 stilt structures located in the northern part of Biscayne National Park in Biscayne Bay. In 1980, the park's northern boundary expanded and Biscayne National Monument became Biscayne National Park. In 1985, when the State of Florida transferred ownership of the bay bottom within the expansion area to the park, it also transferred the leases for the property, which the structures occupy. The leases expired in July 1999. The park's 1983 General Management Plan, Development Concept Plan, Wilderness Study, and Environmental Assessment recommended removing the structures before the leases expired. Because of numerous expressions of public interest in maintaining the structures, the NPS initiated a multi-stage planning process to identify and recommend future public uses of the structures consistent with NPS policy.

In January 2001, the National Park System Advisory Board established the Stiltsville Committee directing it to identify and recommend future public use of Stiltsville and to develop recommendations to guide the future operations of the structures. The committee made several recommendations based upon an understanding that the structures and the surrounding aquatic environment are critical and important to the citizens of south Florida and to the visitors to Biscayne National Park. These comments are available on the Biscayne National Park web site: http://www.nps.gov/bisc

Our practice is to make comments, including names and addresses of respondents, available for public review during regular business hours. If you wish for us to withhold your name and/or address, you must state this prominently at the beginning of your comment. However, we will not consider anonymous comments. We will make all submissions from organizations or businesses, and from individuals identifying themselves as representatives or officials of organizations or businesses, available for public inspection in their entirety.

Dated: August 24, 2001.
Paul Winegar,
Acting Regional Director, Southeast Region.

[FR Doc. 01-31397 Filed 12-20-01; 8:45 am]

BILLING CODE 4310-70-M